DEPARTMENT OF HEALTH AND HUMAN SERVICES

Centers for Disease Control and Prevention

Disease, Disability, and Injury Prevention and Control Special Emphasis Panel (SEP): Adopting and Demonstrating the Adaptation of Prevention Techniques (ADAPT), Supplement to Program Announcement Number 04064

In accordance with Section 10(a)(2) of the Federal Advisory Committee Act (Pub. L. 92-463), the Centers for Disease Control and Prevention (CDC) announces the following meeting:

Name: Disease, Disability, and Injury Prevention and Control Special Emphasis Panel (SEP): Adopting and Demonstrating the Adaptation of Prevention Techniques (ADAPT), Supplement to Program Announcement Number 04064.

Times and Dates: 5 p.m.-7 p.m., September 24, 2004 (Open); 7 p.m.-9 p.m., September 24, 2004 (Closed); 9 a.m.-9 p.m., September 25, 2004 (Closed); 9 a.m.-9 p.m., September 26, 2004 (Closed).

Place: Westin Hotel at Perimeter, 7 Concourse Parkway, Atlanta, GA 30328, Telephone (770) 395-3900.

Status: Portions of the meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to Supplement to Program Announcement Number 04064.

Contact Person For More Information: Jennifer Galbraith, Behavioral Scientist, CDC, National Center for HIV, STD, and TB Prevention, Division of HIV/AIDS Prevention Intervention Research and Support, Prevention Research Branch, 1600 Clifton Road, NE, MS-E37, Atlanta, GA 30333, Telephone (404) 639-8649.

The Director, Management Analysis and Services Office, has been delegated the authority to sign Federal Register notices pertaining to announcements of meetings and other committee management activities, for both CDC and the Agency for Toxic Substances and Disease Registry.

Dated: September 1, 2004.
Alvin Hall,
Director, Management Analysis and Services Office, Centers for Disease Control and Prevention.

[FR Doc. 04-20417 Filed 9-8-04; 8:45 am]

BILLING CODE 4163-18-P